POSTAL SERVICE

Sunshine Act Meeting

Date and Times: Tuesday, June 15, 2004; 10 a.m. and 3 p.m.

Place: Washington, DC, at U.S. Postal Service Headquarters, 475 L'Enfant Plaza, SW., in the Benjamin Franklin Room.

Status: June 15—10 a.m. (Closed); 3 p.m. (Open)

Matters To Be Considered:

Tuesday, June 15—10 a.m. (Closed)

1. Financial Update

2. Rate Case Planning

3. Strategic Planning

4. Personnel Matters and Compensation Issues

Tuesday, June 15—3 p.m. (Open)

1. Minutes of the Previous Meeting, May 11 and 12, 2004

2. Remarks of the Postmaster General and CEO

3. Committee Reports

4. Consideration of Amendment to Board of Governors Bylaws

5. Capital Investments

a. Surface Visibility—Surface-Air Support System (SASS), Phase III

b. Arlington, Virginia, Main Post Office

c. Chicago, Illinois, Busse Surface HUB

d. 1,587 Additional DBCS Stacker Modules

e. Airline Receiving Concourse and Trayline System—New York International Service Center

6. Management Recruitment and Development

7. Tentative Agenda for the July 19-20, 2004, meeting in San Francisco, California

FOR FURTHER INFORMATION CONTACT: William T. Johnstone, Secretary of the Board, U.S. Postal Service, 475 L'Enfant Plaza, SW., Washington, DC 20260-1000. Telephone (202) 268-4800.

William T. Johnstone,
Secretary.

[FR Doc. 04-12837 Filed 6-2-04; 8:45 am]

BILLING CODE 7710-12-M